DEPARTMENT OF TRANSPORTATION

Federal Motor Carrier Safety Administration

[Docket No. FMCSA-2007-27515]

Qualification of Drivers; Exemption Applications; Vision

AGENCY: Federal Motor Carrier Safety Administration (FMCSA), DOT.

ACTION: Notice of applications for exemptions; request for comments.

SUMMARY: FMCSA announces receipt of applications from 25 individuals for exemptions from the vision requirement in the Federal Motor Carrier Safety Regulations. If granted, the exemptions would enable these individuals to qualify as drivers of commercial motor vehicles (CMVs) in interstate commerce without meeting the Federal vision standard.

DATES: Comments must be received on or before May 30, 2007.

ADDRESSES: You may submit comments identified by Department of Transportation (DOT) Docket Management System (DMS) Docket Number FMCSA-2006-27515 using any of the following methods:

• Web Site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket number for this notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments online.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477; Apr. 11, 2000). This information is also available at http://dms.dot.gov.

FOR FURTHER INFORMATION CONTACT: Dr. Mary D. Gunnels, Chief, Physical Qualifications Division, (202) 366-4001, fmcsamedical@dot.gov, FMCSA, Department of Transportation, 400 Seventh Street, SW., Room 8301, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 25 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Roosevelt Bell, Jr.

Mr. Bell, age 42, has had amblyopia in his right eye since birth. The best corrected visual acuity in his right eye is 20/200 and in the left, 20/20. Following an examination in 2006, his ophthalmologist noted, “In my professional opinion, Mr. Bell's visual impairment does not compromise his ability to operate a commercial vehicle safely.” Mr. Bell reported that he has driven straight trucks for 14 years, accumulating 218,400 miles. He holds a Class C operator's license from North Carolina. His driving record for the last 3 years shows no crashes and no convictions for moving violations in a CMV.

David K. Boswell

Mr. Boswell, 46, has a macular scar in his right eye due to ocular histoplasmosis that occurred in 1998. The visual acuity in his right eye is 20/60 and in the left, 20/15. Following an examination in 2006, his optometrist noted, “It is my opinion that Mr. Boswell's condition is stable that he has sufficient visual capability to perform the driving and other tasks associated with operating a commercial vehicle.” Mr. Boswell reported that he has driven tractor-trailer combinations for 7 years, accumulating 525,000 miles. He holds a Class A Commercial Driver's License (CDL) from Tennessee. His driving record for the last 3 years shows no crashes and no convictions for moving violations in a CMV.

Melvin M. Carter

Mr. Carter, 59, has had amblyopia in his right eye since birth. The best corrected visual acuity in his right eye is 20/200 and in the left, 20/20. Following an examination in 2006, his optometrist noted, “I certify with my medical opinion, Melvin Carter has sufficient vision to perform driving tasks required to operate a commercial vehicle.” Mr. Carter reported that he has driven tractor-trailer combinations for 21 years, accumulating 1 million miles. He holds a Class A CDL from Washington. His driving record for the last 3 years shows one crash, which he was cited for, and no convictions for moving violations in a CMV.

Bernabe V. Cerda

Mr. Cerda, 36, has a prosthetic right eye due to a traumatic injury sustained as a child. The visual acuity in his left eye is 20/20. Following an examination in 2007, his optometrist noted, “I believe Mr. Cerda has the level of vision to drive a commercial vehicle.” Mr. Cerda reported that he has driven straight trucks for 8 years, accumulating 400,000 miles, tractor-trailer combinations for 3 years, accumulating 375,000 miles, and buses for 4 years, accumulating 140,000 miles. He holds a Class A CDL from Texas. His driving record for the last 3 years shows no crashes and no convictions for moving violations in a CMV.

Michael S. Crawford

Mr. Crawford, 39, has had amblyopia in his right eye since birth. The best corrected visual acuity in his right eye is 20/50 and in the left, 20/20. Following an examination in 2006, his ophthalmologist noted, “I do not feel that the amblyopia should prevent him from performing the driving tasks required to safely operate a commercial vehicle.” Mr. Crawford reported that he has driven straight trucks for 9 years, accumulating 187,200 miles. He holds a Class D operator's license from Illinois. His driving record for the last 3 years shows no crashes and no convictions for moving violations in a CMV.

Rex A. Dyer

Mr. Dyer, 46, has had amblyopia in his right eye since childhood. The visual acuity in his right eye is 20/60 and in the left, 20/20. Following an examination in 2007, his ophthalmologist noted, “I believe Mr. Rex Dyer has sufficient vision to safely perform the driving tasks required to operate a commercial vehicle.” Mr. Dyer reported that he has driven straight trucks for 26 years, accumulating 1.3 million miles, and tractor-trailer combinations for 26 years, accumulating 1.4 million miles. He holds a Class A CDL from Vermont. His driving record for the last 3 years shows no crashes and no convictions for moving violations in a CMV.

Patrick J. Goebel

Mr. Goebel, 57, has loss of vision in his left eye due to ocular hypertension, secondary to a traumatic injury sustained as a child. The best corrected visual acuity in his right eye is 20/20 and in the left, count-finger-vision. Following an examination in 2006, his optometrist noted, “It is my impression that Mr. Goebel has had stable central and peripheral vision for many years and at this time has sufficient vision to perform the driving tasks required to operate a commercial vehicle.” Mr. Goebel reported that he has driven straight trucks for 40 years, accumulating 2.2 million miles, and tractor-trailer combinations for 11 years, accumulating 60,500 miles. He holds a Class A CDL from Iowa. His driving record for the last 3 years shows no crashes and no convictions for moving violations in a CMV.

Thomas A. Gotto

Mr. Gotto, 53, has complete loss of vision in his right eye due to a traumatic injury sustained in 1998. The visual acuity in his left eye is 20/20. Following an examination in 2006, his ophthalmologist noted, “From my exam today, I feel that he has sufficient vision to perform driving tasks required to operate a commercial vehicle.” Mr. Gotto reported that he has driven straight trucks for 18 years, accumulating 540,000 miles, and tractor-trailer combinations for 18 years, accumulating 180,000 miles. He holds a Class A CDL from Iowa. His driving record for the last 3 years shows no crashes and no convictions for moving violations in a CMV.

Louis W. Henderson, Jr.

Mr. Henderson, 45, has had amblyopia in his left eye since birth. The best corrected visual acuity in his right eye is 20/20 and in the left, 20/100. Following an examination in 2006, his optometrist noted, “Mr. Henderson has maintained a safe driving record for many years and has always driven with mild visual disability of the left eye. Since it has always been present, he has functioned well, and his peripheral visual acuity is excellent there is no reason to believe that he cannot continue to operate commercial vehicles.” Mr. Henderson reported that he has driven straight trucks for 3 years, accumulating 37,500 miles. He holds a Class B CDL from Delaware. His driving record for the last 3 years shows no crashes and no convictions for moving violations in a CMV.

William P. Holloman

Mr. Holloman, 59, has had amblyopia in his left eye since childhood. The best corrected visual acuity in his right eye is 20/15 and in the left, 20/60. Following an examination in 2006, his optometrist noted, “It is my opinion that William Holloman has sufficient vision to perform the driving tasks required to operate a commercial vehicle.” Mr. Holloman reported that he has driven straight trucks for 2 years, accumulating 20,000 miles, and tractor-trailer combinations for 21/2 years, accumulating 250,000 miles. He holds a Class A CDL Instruction Permit from Kentucky. His driving record for the last 3 years shows no crashes and no convictions for moving violations in a CMV.

Wilbur J. Johnson

Mr. Johnson, 50, has had amblyopia in his right eye since birth. The best corrected visual acuity in his right eye is 20/50 and in the left, 20/20. Following an examination in 2007, his optometrist noted, “In my medical opinion the patient has sufficient vision to perform the driving tasks required to operate a commercial vehicle.” Mr. Johnson reported that he has driven straight trucks for 18 years, accumulating 100,800 miles, and tractor-trailer combinations for 29 years, accumulating 101,500 miles. He holds a Class A CDL from Virginia. His driving record for the last 3 years shows no crashes and no convictions for moving violations in a CMV.

Robert J. MacInnis

Mr. MacInnis, 54, has had amblyopia in his right eye since birth. The best corrected visual acuity in his right eye is 20/50 and in the left, 20/20. Following an examination in 2006, his ophthalmologist noted, “His vision is stable and sufficient to perform the driving tasks required to operate a commercial vehicle.” Mr. MacInnis reported that he has driven straight trucks for 2 years, accumulating 2,400 miles, and tractor-trailer combinations for 18 years, accumulating 1.6 million miles. He holds a Class A CDL from Massachusetts. His driving record for the last 3 years shows no crashes and one conviction for a moving violation, speeding in a CMV. He exceeded the speed limit by 15 mph.

Joseph W. Mayes

Mr. Mayes, 40, has had amblyopia in his right eye since childhood. The visual acuity in his right eye is 20/200 and in the left, 20/20. Following an examination in 2007, his optometrist noted, “In my medical opinion, Mr. Mayes has sufficient vision to perform the driving tasks required to operate a commercial vehicle.” Mr. Mayes reported that he has driven straight trucks for 15 years, accumulating 600,000 miles, and buses for 10 years, accumulating 350,000 miles. He holds a Class B CDL from Pennsylvania. His driving record for the last 3 years shows no crashes and no convictions for moving violations in a CMV.

Larry L. Morseman

Mr. Morseman, 61, has had amblyopia in his right eye since 1999. The best corrected visual acuity in his right eye is 20/70 and in the left, 20/20. Following an examination in 2006, his ophthalmologist noted, “It is my opinion that he has sufficient vision to perform the driving tasks required to operate a commercial vehicle.” Mr. Morseman reported that he has driven straight trucks for 34 years, accumulating 425,000 miles, and tractor-trailer combinations for 7½ years, accumulating 11,250 miles. He holds a Class A CDL from New York. His driving record for the last 3 years shows no crashes and no convictions for moving violations in a CMV.

Earl R. Neugebauer

Mr. Neugebauer, 56, has loss of vision in his right eye due to a traumatic injury sustained at age 20. The best corrected visual acuity in his right eye is light perception and in the left, 20/20. Following an examination in 2006, his optometrist noted, “In my opinion, Earl has sufficient vision to perform the driving tasks required to operate a commercial vehicle.” Mr. Neugebauer reported that he has driven straight trucks for 12 years, accumulating 240,000 miles, tractor-trailer combinations for 24 years, accumulating 2.2 million miles, and buses for 2 years, accumulating 180,000 miles. He holds a Class A CDL from Colorado. His driving record for the last 3 years shows no crashes and no convictions for moving violations in a CMV.

Luis M. Ramos

Mr. Ramos, 39, has a macular scar in his right eye due to a traumatic injury sustained approximately 18 years ago. The visual acuity in his right eye is 20/60 and in the left, 20/15. Following an examination in 2006, his ophthalmologist noted, “I feel, to the best of my medical opinion, that he has sufficient vision to operate a commercial vehicle.” Mr. Ramos reported that he has driven tractor-trailer combinations for 18 years, accumulating 2.5 million miles. He holds a Class A CDL from Texas. His driving record for the last 3 years shows no crashes and no convictions for moving violations in a CMV.

Kenneth C. Reeves

Mr. Reeves, 62, has complete loss of vision in his right eye due to an optic nerve injury at birth. The visual acuity in his left eye is 20/20. Following an examination in 2006, his optometrist noted, “The results of the examination reveals his vision has not changed and that he has sufficient vision to perform the driving of a commercial vehicle.” Mr. Reeves reported that he has driven straight trucks for 1 year, accumulating 25,000 miles, and tractor-trailer combinations for 40½ years, accumulating 2 million miles. He holds a Class A CDL from Oregon. His driving record for the last 3 years shows no crashes and no convictions for moving violations in a CMV.

Gregory C. Simmons

Mr. Simmons, 49, has had glaucoma in his left eye since at least 2000. The visual acuity in his right eye is 20/20 and in the left, 20/200. Following an examination in 2006, his ophthalmologist noted, “In my opinion, he has sufficient visual function to drive a commercial vehicle.” Mr. Simmons reported that he has driven straight trucks for 4 years, accumulating 20,800 miles, and tractor-trailer combinations for 17 years, accumulating 132,600 miles. He holds a Class A CDL from Maryland. His driving record for the last 3 years shows no crashes and no convictions for moving violations in a CMV.

Dustin N. Sullivan

Mr. Sullivan, 24, has had amblyopia in his right eye since childhood. The best corrected visual acuity in his right eye is 20/100 and in the left, 20/20. Following an examination in 2006, his ophthalmologist noted, “In my medical opinion, Dustin Sullivan has sufficient vision to perform driving tasks required to operate a commercial vehicle.” Mr. Sullivan reported that he has driven straight trucks for 5 years, accumulating 250,000 miles, and tractor-trailer combinations for 3½ years, accumulating 157,500 miles. He holds a Class A CDL from Maryland. His driving record for the last 3 years shows no crashes and no convictions for moving violations in a CMV.

Thomas E. Summers

Mr. Summers, 59, has loss of vision in his right eye due to a traumatic injury sustained as a child. The best corrected visual acuity in his right eye is light perception and in the left, 20/25. Following an examination in 2006, his ophthalmologist noted, “I believe he has sufficient vision to perform the driving tasks required to operate a commercial vehicle.” Mr. Summers reported that he has driven tractor-trailer combinations for 29 years, accumulating 2 million miles. He holds a Class A CDL from Ohio. His driving record for the last 3 years shows no crashes and one conviction for a moving violation, speed in a CMV. He exceeded the speed limit by 8 mph.

Jon C. Thompson

Mr. Thompson, 48, has had latent nystagmus in his left eye since birth. The visual acuity in his right eye is 20/25 and in the left, 20/200. Following an examination in 2006, his ophthalmologist noted, “It is my opinion that in his current medical status, that Mr. Thompson has sufficient vision to perform the driving tasks required to operate a commercial vehicle.” Mr. Thompson reported that he has driven straight trucks for 26 years, accumulating 1.1 million miles, and tractor-trailer combinations for 2 years, accumulating 90,000 miles. He holds a Class A CDL from Arizona. His driving record for the last 3 years shows no crashes and no convictions for moving violations in a CMV.

Lorenzo Wade

Mr. Wade, 48, has loss of vision in his right eye due to retinal damage from broken blood vessels sustained as a child. The best corrected visual acuity in his right eye is 20/200 and in the left, 20/20. Following an examination in 2007, his optometrist noted, “I believe he has the vision necessary to continue to perform the driving tasks required to operate a commercial vehicle for his job, as he has done in the past.” Mr. Wade reported that he has driven straight trucks for 7 years, accumulating 68,600 miles. He holds a Class C operator's license from California. His driving record for the last 3 years shows no crashes and no convictions for moving violations in a CMV.

James S. Wheeler

Mr. Wheeler, 62, has complete loss of vision in his right eye due to a traumatic injury sustained in 1967. The best corrected visual acuity in his left eye is 20/20. Following an examination in 2006, his optometrist noted, “This patient has sufficient vision to perform driving tasks with commercial vehicles.” Mr. Wheeler reported that he has driven straight trucks for 32 years, accumulating 2.8 million miles, and tractor-trailer combinations for 32 years, accumulating 2.4 million miles. He holds a Class A CDL from Mississippi. His driving record for the last 3 years shows no crashes and no convictions for moving violations in a CMV.

Tommy N. Whitworth

Mr. Whitworth, 53, has had amblyopia in his right eye since childhood. The visual acuity in his right eye is 20/50 and in the left, 20/20. Following an examination in 2006, his ophthalmologist noted, “In my opinion, this patient has sufficient visual acuity with both eyes open to operate a commercial vehicle.” Mr. Whitworth reported that he has driven tractor-trailer combinations for 20 years, accumulating 2 million miles, and buses for 1 ½ years, accumulating 22,500 miles. He holds a Class A CDL from Texas. His driving record for the last 3 years shows no crashes and no convictions for moving violations in a CMV.

James M. Williams

Mr. Williams, 53, has had amblyopia in his right eye since birth. The best corrected visual acuity in his right eye is 20/400 and in the left, 20/20. Following an examination in 2006, his optometrist noted, “This person is capable of operating a commercial vehicle in any state without restriction.” Mr. Williams reported that he has driven straight trucks for 19 years, accumulating 475,000 miles, and tractor-trailer combinations for 16 years, accumulating 320,000 miles. He holds a Class A CDL from Virginia. His driving record for the last 3 years shows no crashes and one conviction for a moving violation in a CMV, failure to obey a traffic sign.

Request for Comments

In accordance with 49 U.S.C. 31136(e) and 31315, FMCSA requests public comment from all interested persons on the exemption petitions described in this notice. The Agency will consider all comments received before the close of business May 30, 2007. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: April 24, 2007.
Pamela M. Pelcovits,
Acting Associate Administrator, Policy and Program Development.

[FR Doc. E7-8177 Filed 4-27-07; 8:45 am]

BILLING CODE 4910-EX-P